DEPARTMENT OF THE INTERIOR

National Park Service

[NPS-WASO-NAGPRA-22774; PPWOCRADN0-PCU00RP14.R50000]

Notice of Inventory Completion: Arkansas State Highway and Transportation Department, Little Rock, AR

AGENCY: National Park Service, Interior.

ACTION: Notice.

SUMMARY: The Arkansas State Highway and Transportation Department has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Arkansas State Highway and Transportation Department. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Arkansas State Highway and Transportation Department at the address in this notice by March 27, 2017.

ADDRESSES: Kristina Boykin, Arkansas State Highway and Transportation Department, P.O. Box 2261, Little Rock, AR 72203, telephone (501) 569-2079, email Kristina.Boykin@ahtd.AR.gov.

SUPPLEMENTARY INFORMATION: Notice is here given in accordance with the Native American Graves Protection and Repatriation Act (NAGPRA), 25 U.S.C. 3003, of the completion of an inventory of human remains and associated funerary objects under the control of the Arkansas State Highway and Transportation Department. The human remains and associated funerary objects were removed from multiple counties in the state of Arkansas.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Arkansas State Highway and Transportation Department professional staff in consultation with representatives of The Quapaw Tribe of Indians.

History and Description of the Remains

In 2004, human remains representing, at minimum, one individual were recovered from the Gilmore South site (3CT340) in Crittenden County, AR, during Phase III mitigation for the improvements to Highway 63. The Arkansas State Highway and Transportation Department contracted the excavations out to SPEARS, Inc., in West Fork, AR. The human remains were transferred to the Arkansas Archeological Survey (AAS) for curation in 2009. The human remains were identified as one adult (18-20 years) and female. No known individuals were identified. No associated funerary objects are present. Diagnostic artifacts found at site 3CT340 indicate these human remains were probably buried during the Transitional Late Woodland/Early Mississippian period (A.D. 700-1200).

In 2004, human remains representing, at minimum, two individuals were recovered from the Gilmore North site (3CT341) in Crittenden County, AR, during Phase III mitigation for the improvements to Highway 63. The Arkansas State Highway and Transportation Department contracted the excavations out to SPEARS, Inc., in West Fork, AR. The human remains were transferred to the AAS for curation in 2009. The human remains were identified as two youths of unknown sex. No known individuals were identified. No associated funerary objects are present. Diagnostic artifacts found at site 3CT341 indicate these human remains were probably buried during the Transitional Late Woodland/Early Mississippian period (A.D. 700-1200).

In 1968, 1969, and 1974, human remains representing, at minimum, 62 individuals were recovered from the Hazel site (3PO6), Poinsett County, AR. The Arkansas State Highway and Transportation Department planned to reroute State Highway 308 which went directly through the Hazel site. The excavations were undertaken by the AAS, and the human remains and associated funerary objects have remained at the AAS's collections since the time of their removal. The human remains were identified as eight infants (less than two years old), 12 children (2 to 12 years), one youth (13 to 18 years), 34 adults (19 to 35 years), two old adults (over 35 years), and five undetermined. The human remains were further identified as eight female, 24 males, and 30 undetermined. No known individuals were identified. The 251 associated funerary objects are 59 whole or partial ceramic vessels, 2 ceramic discs, 1 large body sherd, 16 bone beads, 1 bone gorget, 3 bone awls, 1 deer humerus scraper, 1 antler dagger, 1 raccoon jaw, 1 beaver tooth, 14 conch shell beads, 89 disc-shaped shell beads, 40 pearl-slug shell beads, 7 barrel-shaped shell beads, 2 disc-shaped shell ear ornaments, 2 shell fragments, 1 shell mask gorget, 1 shell spoon, 1 conch shell pendant, 1 willow-leaf knife, 1 biface, 1 ball of red ocher, 1 disc-shaped stone, 1 piece of coarse sandstone, 1 triangular piece of sandstone, 1 cymbal-shaped copper disc, and 1 piece of unidentified chalky material. Diagnostic artifacts found at the Hazel site (3PO6) indicate that the human remains were probably buried during the Parkin Phase (A.D. 1300-1600).

In 1984, human remains representing, at minimum, three individuals (84-712, 84-712-1, Burials 1 and 2) were recovered from the Ink Bayou site (3PU252) in Pulaski County, AR. The Ink Bayou site was excavated to mitigate the impacts of construction of a bridge over Ink Bayou. The Arkansas State Highway and Transportation Department contracted the excavations out to the AAS, and the human remains have remained at the AAS's collections since the time of their removal. The human remains consisted of three adults of unknown age, one male and two undetermined. No known individuals were identified. No associated funerary objects are present. Diagnostic artifacts found at the Ink Bayou site (3PU252) indicate that these human remains were probably buried during the Plum Bayou Phase (A.D. 750-950).

For the human remains listed in this notice, geographic affiliation is consistent with the historically documented territory of The Quapaw Tribe of Indians. Archeological evidence is consistent with the documented use of the area by The Quapaw Tribe of Indians.

Determinations Made by the Arkansas State Highway and Transportation Department

Officials of the Arkansas State Highway and Transportation Department have determined that:

• Pursuant to 25 U.S.C. 3001(9), the human remains described in this notice represent the physical remains of 68 individuals of Native American ancestry.

• Pursuant to 25 U.S.C. 3001(3)(A), the 251 objects described in this notice are reasonably believed to have been placed with or near individual human remains at the time of death or later as part of the death rite or ceremony.

• Pursuant to 25 U.S.C. 3001(2), there is a relationship of shared group identity that can be reasonably traced between the Native American human remains and associated funerary objects and The Quapaw Tribe of Indians.

Additional Requestors and Disposition

Lineal descendants or representatives of any Indian tribe or Native Hawaiian organization not identified in this notice that wish to request transfer of control of these human remains and associated funerary objects should submit a written request with information in support of the request to Kristina Boykin, Arkansas State Highway and Transportation Department, P.O. Box 2261, Little Rock, AR 72203, telephone (501) 569-2079, email Kristina.Boykin@ahtd.AR.gov, by March 27, 2017. After that date, if no additional requestors have come forward, transfer of control of the human remains and associated funerary objects to The Quapaw Tribe of Indians may proceed.

The Arkansas State Highway and Transportation Department is responsible for notifying The Quapaw Tribe of Indians that this notice has been published.

Dated: January 24, 2017.
Melanie O'Brien,
Manager, National NAGPRA Program.

[FR Doc. 2017-03634 Filed 2-23-17; 8:45 am]

BILLING CODE 4312-52-P